DEPARTMENT OF HOUSING AND URBAN DEVELOPMENT

[Docket No. FR-5758-N-03]

60-Day Notice of Proposed Information Collection: Pre-Purchase Homeownership Counseling Demonstration and Impact Evaluation

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 9, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone (202) 402-5564 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone (202) 402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Focus Group Protocols and Consent Collection for Pre-Purchase Homeownership Counseling Demonstration and Impact Evaluation; Second Round.

OMB Approval Number: 2528-0293.

Type of Request: Revision.

Description of the need for the information and proposed use: The Department of Housing and Urban Development (HUD) is conducting an important national study of the effectiveness of pre-purchase homeownership counseling services. This information collection covers two updates to the initial data collection: (a) Replacement of telephone interviews with focus groups to collect qualitative data and (b) changes to the approach used to collect consent from coborrowers of study participants. The information collected through the focus groups will be used to support the implementation analysis and to collect qualitative information about study participants' experiences with pre-purchase homeownership counseling services. The collection of consent from study participants' coborrowers is necessary to allow the study to collect data related to the characteristics and performance of study participants' mortgage loans.

Respondents (i.e. affected public): A total of up to 144 study participants will participate in 12 focus groups of 8-12 participants each. Each focus group will take approximately 120 minutes. Prior to the focus groups, the study team will contact eligible study participants in three cities to request participation in a focus group and confirm eligibility information. The recruitment calls are estimated to take approximately 5 minutes per person. The study's enrollment projections suggest that the three largest study sites will include approximately 720 eligible study participants, although recruitment will end sooner if the available focus group slots are filled.

The collection of coborrower consent involves including the coborrower consent form in the study's regular tracking letters, along with a request for the coborrower to review, sign, and return the written consent form. The study estimates that approximately 1800 study participants will have coborrowers. The coborrowers' review and return of the coborrower consent form is estimated to require approximately 5 minutes per coborrower.

The focus group recruitment call, focus group, and coborrower will be completed once by each applicable respondent during the entire length of the study.

Information collection | Number of respondents | Frequency of response | Responses per annum | Burden hours per response (minutes) | Annual burden hours | Hourly cost per response | Annual cost
Focus group recruitment calls | 720 | 1 | 1 | 5 | 60 | $25 | $1,500
Focus groups | 144 | 1 | 1 | 120 | 288 | 25 | 7,200
Coborrower consent form | 1800 | 1 | 1 | 5 | 150 | 25 | 3750
Total | 2520 | 3 | 3 |  | 498 |  | 12,450

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: February 27, 2014.
Jean Lin Pao,
General Deputy Assistant Secretary for Policy, Development and Research.

[FR Doc. 2014-05097 Filed 3-7-14; 8:45 am]

BILLING CODE 4210-67-P